DEPARTMENT OF COMMERCE

National Oceanic and Atmospheric Administration

50 CFR Part 648

[Docket No. 120109034-2171-01]

RIN 0648-XC737

Fisheries of the Northeastern United States; Northeast Multispecies Fishery; Trip Limit Adjustment for the Common Pool Fishery

AGENCY: National Marine Fisheries Service (NMFS), National Oceanic and Atmospheric Administration (NOAA), Commerce.

ACTION: Temporary rule; inseason adjustment; closure.

SUMMARY: This action decreases the landing limit for Southern New England/Mid-Atlantic (SNE/MA) winter flounder for Northeast multispecies common pool vessels for the remainder of the 2013 fishing year (FY). This action also closes the Gulf of Maine (GOM) haddock Trimester Total Allowable Catch Area (TAC) for the remainder of Trimester 1, through August 31, 2013, because the common pool fishery has caught 147 percent of its Trimester 1 TAC for GOM haddock. This action is intended to prevent the overharvest of the common pool's allocation of SNE/MA winter flounder and GOM haddock.

DATES: The trip limit decrease for SNE/MA winter flounder is effective July 16, 2013 through April 30, 2014. The closure of the GOM haddock Trimester TAC Area is effective July 16, 2013, through August 31, 2013.

FOR FURTHER INFORMATION CONTACT: Brett Alger, Fishery Management Specialist, 978-675-2153, Fax 978-281-9135.

SUPPLEMENTARY INFORMATION: Regulations governing the Northeast (NE) multispecies fishery are found at 50 CFR part 648, subpart F. The regulations authorize the Regional Administrator (RA) to adjust the possession limits for common pool vessels in order to optimize the harvest of NE regulated multispecies by preventing the overharvest or underharvest of the pertinent common pool sub-annual catch limits (ACLs). Based on data reported through June 19, 2013, the common pool fishery has caught approximately 53 percent of its FY 2013 SNE/MA winter flounder allocation of 136 mt (299,829 lb). The current trip limit for SNE/MA winter flounder is 5,000 lb (2,268 kg) per day-at-sea (DAS), and up to 15,000 lb (6,804 kg) per trip for common pool vessels. However, recent analysis shows that the common pool would likely exceed its FY 2013 allocation for SNA/MA winter flounder if the trip limit is not reduced. As a result, the trip limit is reduced to 1,000 lb (453.6 kg) per trip for all common pool vessels. The trip limit adjustment is effective July 16, 2013, through April 30, 2014.

The regulations also require the RA to close the Trimester TAC Area for a stock when 90 percent of the Trimester TAC is projected to be caught. The Trimester TAC Area for a stock will close to all common pool vessels fishing with gear capable of catching that stock for the remainder of the trimester. Any overages of a trimester TAC will be deducted from Trimester 3, and any overages of the common pool's sub-ACL at the end of the FY will be deducted from the common pool's sub-ACL the following FY. Any uncaught portion of the Trimester 1 and Trimester 2 TAC will be carried over into the next trimester. Any uncaught portion of the common pool's sub-ACL may not be carried over into the following FY.

The FY 2013 common pool sub-ACL for GOM haddock is 2 mt (4,409 lb), and the Trimester 1 TAC is 0.5 mt (1,102 lb). Because there are relatively few common pool vessels, and the Trimester 1 TAC for GOM haddock is so small, it was difficult to project when 90 percent of the Trimester TAC would be reached. Based on the most recent data, which include vessel trip reports (VTRs), dealer reported landings, and vessel monitoring system (VMS) information, NMFS has projected that 147 percent of the Trimester 1 TAC for GOM haddock has been caught. Therefore, effective July 16, 2013, the GOM haddock Trimester TAC Area is closed for the remainder of Trimester 1, through August 31, 2013, to all common pool vessels fishing with trawl gear, sink gillnet gear, and longline/hook gear. The GOM haddock Trimester TAC Area will reopen to common pool vessels fishing with trawl, sink gillnet, and longline/hook gear at the beginning of Trimester 2, on September 1, 2013. Any overage of the Trimester 1 TAC for GOM haddock will be deducted from the Trimester 3 TAC for the stock.

Catch will continue to be monitored through VTRs, dealer-reported landings, VMS catch reports, and other available information, and if necessary, additional adjustments to common pool management measures may be made.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. Pursuant to 5 U.S.C. 553(d)(3), the AA also finds good cause to waive the 30-day delayed effectiveness period.

The regulations at § 648.86(o) grant the RA authority to adjust the NE multispecies trip limits for common pool vessels in order to prevent the overharvest or underharvest of the pertinent common pool sub-ACLs. In addition, the regulations require the RA to close a trimester TAC area when 90 percent of the respective Trimester TAC has been caught by common pool vessels. The catch data used as the basis for this action only recently became available. The available analysis indicates that if the SNE/MA winter flounder trip limit is not reduced quickly, the common pool fishery would likely exceed its FY 2013 allocation for this stock. In addition, the recent catch data show that the common pool fishery has already exceeded its Trimester TAC for GOM haddock. As a result, this action reduces the probability of the common pool fishery exceeding its sub-ACLs for SNE/MA winter flounder and GOM haddock. Any overages of the common pools sub-ACLs for these stocks would undermine conservation objectives and trigger the implementation of accountability measures that would have negative economic impacts on the common pool vessels. As a result, the time necessary to provide for prior notice and comment, and a 30-day delay in effectiveness, would prevent NMFS from implementing the necessary trip limit adjustment and Trimester TAC closure in a timely manner, which could undermine conservation objectives of the NE Multispecies Fishery Management Plan, and cause negative economic impacts to the common pool fishery.

Authority: 16 U.S.C. 1801 et seq.

Dated: July 11, 2013.
Galen Tromble,
Acting Deputy Director, Office of Sustainable Fisheries, National Marine Fisheries Service.

[FR Doc. 2013-17034 Filed 7-15-13; 8:45 am]

BILLING CODE 3510-22-P